DEPARTMENT OF THE INTERIOR

National Park Service

AGENCY: National Park Service.

ACTION: Notice of Availability of a Draft Environmental Impact Statement for the Great Smoky Mountains National Park, Elkmont Historic District General Management Plan Amendment.

SUMMARY: Pursuant to section 102(2)(C) of the National Environmental Policy Act of 1969 and National Park Service (NPS) policy in Director's Order Number 2 (Park Planning) and Director's Order Number 12 (Conservation Planning, Environmental Impact Analysis, and Decisionmaking) the NPS announces the availability of a Draft Environmental Impact Statement/General Management Plan Amendment (Draft EIS/GMPA) for the Elkmont Historic District within Great Smoky Mountains National Park. The authority for publishing this notice is contained in 40 CFR 1506.6.

The document provides a framework for management, use, and development options for the historic district by the NPS for the next 15 to 20 years. The document describes seven management alternatives for consideration, including a no-action alternative that is tiered to the existing Park GMP, and analyzes the environmental impacts of those alternatives. The Elkmont Historic District is located within the Little River Watershed in Sevier County, Tennessee, approximately 6 miles from the Sugarlands Visitor Center and approximately 8 miles from the city of Gatlinburg, Tennessee.

DATES: There will be a 90-day comment period beginning with the Environmental Protection Agency's publication of its notice of availability in the Federal Register.

ADDRESSES: Copies of the Draft EIS/GMPA are available by contacting the Park Superintendent at Great Smoky Mountains National Park, 107 Park Headquarters Road, Gatlinburg, Tennessee 37738. An electronic copy of the Draft EIS/GMPA is available on the Internet at http://www.nps.gov/grsm/pphtml/documents.html.

SUPPLEMENTARY INFORMATION: The NPS held public and stakeholder meetings and consulting party meetings as outlined in 36 CFR 800.3 to gather advice and feedback on desired outcomes for the future management of the Elkmont Historic District. The meetings assisted the NPS in developing alternatives for managing the cultural and natural resources, creating interpretive and educational programs and ensuring traditional uses are maintained. Responses from the meetings were incorporated into the alternative described in the plan.

The No-Action Alternative is tiered to the GMP and calls for all structures to be removed and building sites to be returned to a natural state. Alternative A is similar to the No-Action Alternative but proposes active restoration of natural resources upon removal of all structures. Alternative B calls for the retention of 12 buildings for use as a museum community, and the Appalachian Clubhouse for use as a day use facility. Alternative C would retain 17 buildings for use as a museum community, including one cabin granted to a figure prominent in the creation of the National Park, and the Appalachian Clubhouse for use as a day use facility. Alternative D adds to the number of buildings retained and uses described in Alternative C by retaining 18 cabins for use as a museum community, including an additional building associated with a prominent figure from the Lumber Company that operated during the period of significance. Additionally, six cabins would be retained for overnight administrative use by visiting scientists participating in Park research programs, also included would be two options for the Wonderland Hotel and Annex, by either removing both or reconstructing the hotel and rehabilitating the annex for Park curatorial use for cultural resource collections. Alternative E would retain 17 buildings for use as a museum community and the Appalachian Clubhouse for use as a day use picnic facility. Additionally, six buildings would be retained for overnight use by visiting scientists as described in Alternative D and seven cabins would be retained for overnight use by visiting public operated by a private concessionaire. Two options for the Wonderland Hotel and Annex include either removing both or reconstructing the hotel and rehabilitating the annex for lodging by the visiting public also operated by a private concessionaire. Alternative F proposes retaining 17 buildings for use as a museum community and the Appalachian Clubhouse for use as a day use facility. In this alternative, 37 buildings would be retained for lodging by visiting public operated by a private concessionaire. Two options for the Wonderland Hotel and Annex include either removing both or reconstructing the hotel and rehabilitating the annex for lodging by the visiting public also operated by a private concessionaire. Alternative C is both the environmentally preferred and the agency preferred alternative.

Following the public comment period, all comments will be available for public review during regular business hours. Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Ian Shanklin at 865-436-1318, or Amy Wirsching at 404-562-3124, extension 607.

The responsible official for this Draft EIS/GMPA is Patricia A. Hooks, Regional Director, Southeast Region, National Park Service, 100 Alabama Street, SW., 1924 Building, Atlanta, Georgia 30303.

Dated: December 7, 2005.
Patricia A. Hooks,
Regional Director, Southeast Region.

[FR Doc. 06-838 Filed 1-27-06; 8:45 am]

BILLING CODE 4310-8A-M